DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before August 3, 2009.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 × 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Authorization to Furnish Financial Information and Certificate of Compliance.

OMB Number: 1513-0004.

TTB Form Number: 5030.6.

Abstract: The Right to Financial Privacy Act of 1978 limits access to records held by financial institutions and provides for certain procedures to gain access to the information. TTB F 5030.6 serves as both a customer authorization for TTB to receive such information and as the required certification to the financial institution.

Current Actions: We are submitting this information collection for extension purposes only. The information collection, estimated number of respondents, and estimated total annual burden hours remain unchanged.

Type of Review: Extension of a currently approved collection.

Affected Public: Business or other for-profit.

Estimated Number of Respondents: 2,000.

Estimated Total Annual Burden Hours: 500.

Title: Application to Establish and Operate Wine Premises and Wine Bond.

OMB Number: 1513-0009.

TTB Form Numbers: 5120.25 and 5120.36, respectively.

Abstract: TTB F 5120.25, Application to Establish and Operate Wine Premises, is the form used to establish the qualifications of a person applying to establish and operate a wine premises. The applicant certifies their intention to produce and/or store a specified amount of wine and to take certain precautions to protect it from unauthorized use. TTB F 5120.36, Wine Bond, is the form used by the proprietor and a surety company as a contract to ensure the payment of the Federal wine excise tax.

Current Actions: We are submitting this information collection as a revision. We are making minor changes to both forms. The changes will make the forms clearer and easier for the preparer to complete. These changes will not affect the estimated number of respondents; however, the estimated total annual burden hours will increase as a result of the revision of the number of responses.

Type of Review: Revision of a currently approved collection.

Affected Public: Business or other for-profit.

Estimated Number of Respondents: 1,720.

Estimated Total Annual Burden Hours: 2,150.

Title: Formula and Process for Wine.

OMB Number: 1513-0010.

TTB Form Number: 5120.29.

Abstract: TTB F 5120.29 is used to determine the classification of wines for labeling and consumer protection purposes. The form describes the person filing, the type of product to be made, and any restrictions to labeling and manufacture. The form is also used to audit a product's compliance with the relevant regulations.

Current Actions: We are submitting this information collection as a revision. We are making minor corrections to this information collection, but the estimated number of respondents and estimated total annual burden hours remain unchanged.

Type of Review: Revision of a currently approved collection.

Affected Public: Business or other for-profit.

Estimated Number of Respondents: 600.

Estimated Total Annual Burden Hours: 1,200.

Title: Application for an Industrial Alcohol User Permit.

OMB Number: 1513-0028.

TTB Form Number: 5150.22.

Abstract: TTB F 5150.22 is used to determine the eligibility of the applicant to engage in certain operations and the extent of the operations for the production and distribution of specially denatured spirits (alcohol/rum). This form identifies the location of the premises and establishes whether the premises will be in conformity with Federal laws and regulations.

Current Actions: We are submitting this information collection as a revision. We are making minor changes to this information collection, but the estimated number of respondents and estimated total annual burden hours remain unchanged.

Type of Review: Revision of a currently approved collection.

Affected Public: Business or other for-profit; Not-for-profit institutions; State, local, or tribal Government.

Estimated Number of Respondents: 1,476.

Estimated Total Annual Burden Hours: 1,476.

Title: Distilled Spirits Records and Monthly Report of Production Operations.

OMB Number: 1513-0047.

TTB Form Number: 5110.40.

TTB Recordkeeping Number: 5110/01.

Abstract: This information collected is used to account for a proprietor's excise tax liability, adequacy of bond coverage, and protection of the revenue. The information also provides data to analyze trends in the industry, plan efficient allocation of field resources, audit plant operations, and compile statistics for government economic analysis.

Current Actions: We are submitting this information collection for extension purposes only. This information collection, the estimated number of respondents, and the estimated total annual burden hours remain unchanged.

Type of Review: Extension of a currently approved collection.

Affected Public: Business and other for-profit.

Estimated Number of Respondents: 1,800.

Estimated Total Annual Burden Hours: 3,600.

Title: Registration of Distilled Spirits Plants and Miscellaneous Requests and Notices for Distilled Spirits Plants.

OMB Number: 1513-0048.

TTB Form Number: 5110.41.

Abstract: The information provided by the applicants assists TTB in determining eligibility and providing for registration. These eligibility requirements are for persons who wish to establish distilled spirits plant operations. However, both statutes and regulations allow variances from regulations, and this information provides data to permit a variance.

Current Actions: We are submitting this information collection for extension purposes only. This information collection, the estimated number of respondents, and the estimated total annual burden hours remain unchanged.

Type of Review: Extension of a currently approved collection.

Affected Public: Business and other for-profit.

Estimated Number of Respondents: 1,109.

Estimated Total Annual Burden Hours: 1,888.

Title: Letterhead Applications and Notices Relating to Wine.

OMB Number: 1513-0057.

TTB Recordkeeping Number: 5120/2.

Abstract: Letterhead applications and notices relating to wine are required to ensure that the intended activity will not jeopardize the revenue or defraud consumers.

Current Actions: We are submitting this information collection for extension purposes only. This information collection, the estimated number of respondents, and the estimated total annual burden hours remain unchanged.

Type of Review: Extension of a currently approved collection.

Affected Public: Business and other for-profit.

Estimated Number of Respondents: 1,650.

Estimated Total Annual Burden Hours: 825.

Title: Letterhead Applications and Notices Relating to Tax-Free Alcohol.

OMB Number: 1513-0060.

TTB Record Number: 5150/4.

Abstract: Tax-free alcohol is used for nonbeverage purposes by educational organizations, hospitals, laboratories, and the like in scientific research and for medicinal purposes. Permits/Applications control the authorized uses and flow of tax-free alcohol. TTB Letterhead Applications and Notices are designed to protect tax revenue and public safety.

Current Actions: We are submitting this information collection for extension purposes only. This information collection, the estimated number of respondents, and the estimated total annual burden hours remain unchanged.

Type of Review: Extension of a currently approved collection.

Affected Public: Not-for-profit institutions; Federal Government; State, local, or tribal Government.

Estimated Number of Respondents: 4,444.

Estimated Total Annual Burden Hours: 2,222.

Title: Stills—Notices, Registration, and Records.

OMB Number: 1513-0063.

TTB Record Number: 5150/8.

Abstract: This information collection is used to account for and regulate the distillation of distilled spirits, to protect the revenue, and to provide for the identification of distillers. We also use it to establish whether a person who intends to use a still or other distilling apparatus has qualified to conduct distilling operations and complied with other pertinent provisions of law and regulations.

Current Actions: We are submitting this information collection for extension purposes only. This information collection, the estimated number of respondents, and the estimated total annual burden hours remain unchanged.

Type of Review: Extension of a currently approved collection.

Affected Public: Business or other for-profit.

Estimated Number of Respondents: 10.

Estimated Total Annual Burden Hours: 21.

Title: Stills—Retail Liquor Dealers Records of Receipts of Alcoholic Beverages and Commercial Invoices.

OMB Number: 1513-0066.

TTB Recordkeeping Number: 5170/3.

Abstract: The primary objective of this recordkeeping requirement is revenue protection, by making accountability data available for audit purposes. Another objective is consumer protection, by affording the subject record traceability of alcoholic beverages to the retail liquor dealer level of distribution in the event of defective products. The record retention requirement for this information collection is 3 years.

Current Actions: We are submitting this information collection for extension purposes only. This information collection, the estimated number of respondents, and the estimated total annual burden hours remain unchanged.

Type of Review: Extension of a currently approved collection.

Affected Public: Business or other for-profit; State, local, or tribal Government.

Estimated Number of Respondents: 455,000.

Estimated Total Annual Burden Hours: 455,000.

Title: Wholesale Dealers Applications, Letterheads, and Notices Relating to Operations. (Variations in Format or Preparation of Records).

OMB Number: 1513-0067.

TTB Recordkeeping Number: 5170/6.

Abstract: This recordkeeping requirement pertains only to those wholesale liquor and beer dealers submitting applications for a variance from the regulations dealing with preparation, format, type, or place of retention of records of receipt or disposition of alcoholic beverages.

Current Actions: We are submitting this information collection for extension purposes only. This information collection, the estimated number of respondents, and the estimated total annual burden hours remain unchanged.

Type of Review: Extension of a currently approved collection.

Affected Public: Business or other for-profit.

Estimated Number of Respondents: 1,029.

Estimated Total Annual Burden Hours: 515.

Title: Airlines Withdrawing Stock from Customs Custody.

OMB Number: 1513-0074.

TTB Recordkeeping Number: 5620/2.

Abstract: Airlines may withdraw tax-exempt distilled spirits, wine, and beer from Customs custody for foreign flights. The required record shows the amount of spirits and wine withdrawn, flight identification, and Customs certification. The records enable TTB to verify that tax is not due, allows spirits and wines to be traced, maintains accountability, and protects tax revenue. This collection of information is contained in 27 CFR 28.280 and 28.281.

Current Actions: We are submitting this information collection for extension purposes only. This information collection, the estimated number of respondents, and the estimated total annual burden hours remain unchanged.

Type of Review: Extension of a currently approved collection.

Affected Public: Business and other for-profit.

Estimated Number of Respondents: 25.

Estimated Total Annual Burden Hours: 2,500.

Title: Alcohol, Tobacco, and Firearms Tax Returns, Claims, and Related Documents.

OMB Number: 1513-0088.

TTB Record Number: 5000/24.

Abstract: TTB is responsible for the collection of the Federal excise taxes on firearms, ammunition, distilled spirits, wine, beer, various tobacco products, and cigarette papers and tubes. Alcohol, tobacco, firearms, and ammunition excise taxes, and tobacco special (occupational) taxes are required to be collected on the basis of a return. 26 U.S.C. 5555 authorizes the Secretary of the Treasury to prescribe regulations requiring all persons liable for these taxes to prepare records, statements, or returns as necessary to protect the revenue.

Current Actions: We are submitting this information collection for extension purposes only. This information collection, the estimated number of respondents, and the estimated total annual burden hours remain unchanged.

Type of Review: Extension of a currently approved collection.

Affected Public: Business or other for-profit; Not-for-profit institutions; Individuals or households.

Estimated Number of Respondents: 503,921.

Estimated Total Annual Burden Hours: 503,921.

Title: Liquors and Articles from Puerto Rico or the Virgin Islands.

OMB Number: 1513-0089.

TTB Recordkeeping Number: 5530/3.

Abstract: This information collection applies to persons bringing nonbeverage products into the United States from Puerto Rico and the Virgin Islands. These recordkeeping requirements are for the verification of claims for drawback of distilled spirits excise tax paid on nonbeverage products.

Current Actions: We are submitting this information collection for extension purposes only. This information collection, the estimated number of respondents, and the estimated total annual burden hours remain unchanged.

Type of Review: Extension of a currently approved collection.

Affected Public: Business or other for profit.

Estimated Number of Respondents: 20.

Estimated Total Annual Burden Hours: 120.

Title: Notices Relating to Payment of Firearms and Ammunition Excise Tax.

OMB Number: 1513-0097.

TTB Form Number: None.

TTB Record/Recordkeeping Number: None.

Abstract: Federal excise taxes are collected on the sale or use of firearms and ammunition by firearms or ammunition manufacturers, importers, or producers. Taxpayers who elect to pay excise taxes by electronic fund transfer must furnish a written notice upon election and discontinuance. This notice protects the tax revenue.

Current Actions: We are submitting this information collection for extension purposes only. This information collection, the estimated number of respondents, and the estimated total annual burden hours remain unchanged.

Type of Review: Extension of a currently approved collection.

Affected Public: Business or other for-profit.

Estimated Number of Respondents: 10.

Estimated Total Annual Burden Hours: 1.

Title: Applications, Notices, and Permits Relating to Importation and Exportation of Distilled Spirits, Wine and Beer, Including Puerto Rico and Virgin Islands.

OMB Number: 1513-0100.

TTB Form Number: None.

TTB Record/Recordkeeping Number: None.

Abstract: Distilled spirits, beer, wine, and industrial alcohol are subject to Federal alcohol excise tax when imported into the United States. The taxes on these commodities coming from the Virgin Islands and Puerto Rico are largely returned to the two insular governments. Exports of these products from the United States are largely tax free. These documents ensure that the proper taxes are collected or returned according to law.

Current Actions: We are submitting this information collection for extension purposes only. This information collection, the estimated number of respondents, and the estimated total annual burden hours remain unchanged.

Type of Review: Extension of a currently approved collection.

Affected Public: Business or other for-profit.

Estimated Number of Respondents: 20.

Estimated Total Annual Burden Hours: 180.

Title: Information Collected in Support of Small Producer's Wine Tax Credit.

OMB Number: 1513-0104.

TTB Record Number: 5120/11.

Abstract: TTB is responsible for the collection of the Federal excise tax on wines. Certain small wine producers are eligible for a credit which may be taken to reduce the tax they pay on wines removed from their own premises. In addition, small producers can authorize bonded warehouses, which store their wine and ship it on their instructions, to take the credit on their behalf. The transferee will use the information provided by the small producer under the regulations to take the appropriate credit on behalf of the small producer, and the producer will use this information to monitor its own tax payments to ensure it does not exceed the authorized annual credit. The information is used by taxpayers in preparing their returns and by TTB to verify tax computation.

Current Actions: We are submitting this information collection for extension purposes only. This information collection, the estimated number of respondents, and the estimated total annual burden hours remain unchanged.

Type of Review: Extension of a currently approved collection.

Affected Public: Business or other for-profit.

Estimated Number of Respondents: 280.

Estimated Total Annual Burden Hours: 2,800.

Title: Tobacco Products and Cigarette Papers and Tubes, 2009 Tax Increase and Floor Stocks Tax.

OMB Number: 1513-0129.

TTB Form Number: 5000.28T09.

Abstract: The Children's Health Insurance Program Reauthorization Act of 2009 (Pub. L. 111-3), enacted February 4, 2009, imposed a floor stocks tax on tobacco products (except large cigars) and cigarette papers and tubes held for sale on April 1, 2009. Persons holding taxable articles on that date must take an inventory and file a return and pay any tax due. To incorporate these changes in the regulations, TTB published a temporary rule (74 FR 14479) in the Federal Register on March 31, 2009. In that same issue, TTB published a notice of proposed rulemaking (74 FR 14506) to request comments on the temporary rule.

Current Actions: We are submitting this information collection as an extension of the original 6-month approval. The form, estimated number of respondents, and estimated total annual burden hours remain unchanged.

Type of Review: Extension of a currently approved collection.

Affected Public: Business and other for-profit; State, local or tribal Government.

Estimated Number of Respondents: 200,000.

Estimated Total Annual Burden Hours: 960,000.

Dated: May 28, 2009.
Francis W. Foote,
Director, Regulations and Rulings Division.

[FR Doc. E9-13074 Filed 6-3-09; 8:45 am]

BILLING CODE 4810-31-P